DEPARTMENT OF TRANSPORTATION

Federal Aviation Administration

14 CFR Part 39

[Docket No. FAA-2017-0504; Product Identifier 2017-NE-12-AD; Amendment 39-19415; AD 2018-19-15]

RIN 2120-AA64

Airworthiness Directives; GEVEN S.p.A. Seat Assemblies, Type D1-02 and D1-03

AGENCY: Federal Aviation Administration (FAA), DOT.

ACTION: Final rule.

SUMMARY: We are adopting a new airworthiness directive (AD) for certain GEVEN S.p.A. (Geven) Type D1-02 and D1-03 seat assemblies. This AD was prompted by a report that seat belt attachment bolts were found detached or partially detached from the seat. This AD requires inspection, torque verification, and modification of certain model seats. We are issuing this AD to address the unsafe condition on these products.

DATES: This AD is effective November 14, 2018.

The Director of the Federal Register approved the incorporation by reference of a certain publication listed in this AD as of November 14, 2018.

ADDRESSES: For service information identified in this final rule, contact Geven Technical Assistance Department, Via Boscofangone, Zona Industriale Nola-Marigliano, 80035 Nola (NA), Italy; phone: +39 081 31 21 396; fax: +39 081 31 21 321; email: Technical.assistance@geven.com. You may view this service information at the FAA, Engine & Propeller Standards Branch, 1200 District Avenue, Burlington, MA 01803. For information on the availability of this material at the FAA, call 781-238-7759. It is also available on the internet at http://www.regulations.gov by searching for and locating Docket No. FAA-2017-0504.

Examining the AD Docket

You may examine the AD docket on the internet at http://www.regulations.gov by searching for and locating Docket No. FAA-2017-0504; or in person at Docket Operations between 9 a.m. and 5 p.m., Monday through Friday, except Federal holidays. The AD docket contains this final rule, the mandatory continuing airworthiness information (MCAI), the regulatory evaluation, any comments received, and other information. The address for Docket Operations (phone: 800-647-5527) is U.S. Department of Transportation, Docket Operations, M-30, West Building Ground Floor, Room W12-140, 1200 New Jersey Avenue SE, Washington, DC 20590.

FOR FURTHER INFORMATION CONTACT: Neil Doh, Aerospace Engineer, Boston ACO Branch, FAA, 1200 District Avenue, Burlington, MA 01803; phone: 781-238-7757; fax: 781-238-7199; email: neil.doh@faa.gov.

SUPPLEMENTARY INFORMATION:

Discussion

We issued a notice of proposed rulemaking (NPRM) to amend 14 CFR part 39 by adding an AD that would apply to certain Geven, Type D1-02 and D1-03 seat assemblies. The NPRM published in the Federal Register on July 14, 2017 (82 FR 32494). The NPRM was prompted by a report that seat belt attachment bolts were found detached or partially detached from the seat. The NPRM proposed to require inspection, torque verification, and modification of certain model seats. We are issuing this AD to address the unsafe condition on these products.

The European Aviation Safety Agency (EASA), which is the Technical Agent for the Member States of the European Community, has issued EASA AD 2014-0187, dated August 20, 2014 (referred to after this as “the MCAI”), to address the unsafe condition on these products. The MCAI states:

An operator reported that seat belt attachment bolts were found detached or partially detached from the seat. A further check on several aeroplanes revealed that on a large number of seats of the same model, the seat belt attachment bolts were not properly torqued and secured as defined. This condition, if not detected and corrected, could lead to failure of the seats to perform their intended function, possibly resulting in injury to occupants in case of an emergency landing. To address this potential unsafe condition, Geven published SB No. D103-25-004 to provide inspection instructions to verify if the seat belt attachment bolts are properly torqued and secured, and correction of any deficiencies. In addition, for certain D1-03 seats, the SB provides instructions to modify the seat belt attachment assembly. For the reasons described above, this EASA AD requires a one-time inspection of all safety belt attachment bolts and, depending on findings, accomplishment of the applicable corrective action(s). This EASA AD also requires modification of the seat belt attachment assembly on certain D1-03 seats.

You may obtain further information by examining the MCAI in the AD docket on the internet at http://www.regulations.gov by searching for and locating Docket No. FAA-2017-0504.

Comments

We gave the public the opportunity to participate in developing this final rule. We received no comments on the NPRM or on the determination of the cost to the public.

Clarification to the Number of Affected Airplanes

Since we issued the NPRM, we determined that we needed to identify the specific number of affected Avions de transport regional (ATR) 42 and ATR 72 airplanes rather than list the overall number of airplanes that are affected. The estimated costs have not changed.

Clarification to Required Actions

We also determined that the compliance in the NPRM was not clear as to which Geven seats required modification and which required bushing replacement. We have clarified the Required Actions in this AD. Additionally, all Geven Type D1-02 and D1-03 safety belt assemblies are torque checked, but, only Geven Type D1-03 seat belt attachment assemblies on the aisle side spreader must be modified.

Clarification of Service Information Reporting Requirements

We also determined that Geven Service Bulletin (SB) No. D103-25-004, Revision 4, dated March 15, 2016, specifies to submit certain information to the manufacturer. This AD does not include that requirement.

Conclusion

We reviewed the relevant data and determined that air safety and the public interest require adopting this final rule as proposed except for minor editorial changes. We have determined that these minor changes:

• Are consistent with the intent that was proposed in the NPRM for addressing the unsafe condition; and

• Do not add any additional burden upon the public than was already proposed in the NPRM.

Related Service Information Under 1 CFR Part 51

We reviewed Geven SB No. D103-25-004, Revision 4, dated March 15, 2016. The SB describes procedures for inspection, torque verification, and modification of certain model seats known to be installed on ATR 42 and ATR 72 airplanes. This service information is reasonably available because the interested parties have access to it through their normal course of business or by the means identified in the ADDRESSES section.

Costs of Compliance

We estimate that this AD affects an unknown number of seat assemblies installed on, but not limited to, 25 ATR 42 airplanes and 13 ATR 72 airplanes of U.S. registry.

We estimate the following costs to comply with this AD:

Estimated Costs
Action | Labor cost | Parts cost | Cost per product | Cost on U.S. operators
Seat modification—ATR 42 | 1.5 work-hours × $85 per hour = $127.50 | $302 | $429.50 | $10,737.50
Torque check—ATR 42 | 0.8 work-hours × $85 per hour = $68.00 | 0 | 68.00 | 1,700.00
Seat modification—ATR 72 | 2.3 work-hours × $85 per hour = $195.50 | 368 | 563.50 | 7,325.50
Seat remove and replace—ATR 72 | 1.2 work-hours × $85 per hour = $102.00 | 0 | 102.00 | 1,326.00

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to engines, propellers, and associated appliances to the Manager, Engine and Propeller Standards Branch, Policy and Innovation Division.

Regulatory Findings

This AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-19-15 GEVEN S.p.A.: Amendment 39-19415; Docket No. FAA-2017-0504; Product Identifier 2017-NE-12-AD.

(a) Effective Date

This AD is effective November 14, 2018.

(b) Affected ADs

None.

(c) Applicability

(1) This AD applies to certain GEVEN S.p.A. (Geven) Type D1-02 (also known as “Lightweight AFT facing seats”) and D1-03 (also known as “Lightweight” Classic and Prestige) in-arm table, standard, and last row seats, with part numbers (P/Ns) and Effectivity Codes listed in Table 1.1.1 of Geven Service Bulletin (SB) No. D103-25-004, Revision 4, dated March 15, 2016.

(2) These appliances are installed on, but not limited to, Avions de transport regional (ATR) 42 and ATR 72 airplanes of U.S. registry.

(d) Subject

Joint Aircraft System Component (JASC) 2500 Code, Cabin Equipment/Furnishings.

(e) Unsafe Condition

This AD was prompted by a report that seat belt attachment bolts were found detached or partially detached from the seat. We are issuing this AD to prevent failure of the seats to perform their intended function, which, if not detected and corrected, could possibly result in injury to occupants in case of an emergency landing.

(f) Compliance

Comply with this AD within the compliance times specified, unless already done.

(g) Required Actions

(1) Within six months after the effective date of this AD, in accordance with Geven SB No. D103-25-004, Revision 4, dated March 15, 2016, for all Geven Type D1-03 (also known as “Lightweight” Classic and Prestige) in-arm table, standard, and last row seats, P/N D1-03-()()()-()()(), modify the safety belt attachment assemblies on the aisle side spreader, and torque check the safety belt attachment assemblies on the central and fuselage side spreaders to 71 in-lbs. (8 nm).

(2) Within six months after the effective date of this AD, in accordance with Geven SB No. D103-25-004, Revision 4, dated March 15, 2016, for all Geven Type D1-02 (also known as “Lightweight aft facing seats”) in-arm table, standard, and last row seats, P/N D1-02-()()()-()()(), perform the following:

(i) Torque check the seat belt attachment assemblies on the aisle side, central, and fuselage side spreaders to 71 in-lbs., and verify that the safety belt attachment is free to rotate.

(ii) If the safety belt attachment is not free to rotate following paragraph (g)(2)(i), replace the bushing in accordance with paragraph 3.3.1 of Geven SB No. D103-25-004, Revision 4, dated March 15, 2016, or block each affected seat until the bushing replacement is accomplished.

(h) No Reporting Requirement

Although the service information identified in paragraph (g) of this AD specifies to submit certain information to the manufacturer, this AD does not include that reporting requirement.

(i) Alternative Methods of Compliance (AMOCs)

(1) The Manager, Boston ACO Branch, FAA, has the authority to approve AMOCs for this AD, if requested using the procedures found in 14 CFR 39.19. In accordance with 14 CFR 39.19, send your request to your principal inspector or local Flight Standards District Office, as appropriate. If sending information directly to the manager of the Boston ACO Branch, send it to the attention of the person identified in paragraph (j)(1) of this AD.

(2) Before using any approved AMOC, notify your appropriate principal inspector, or lacking a principal inspector, the manager of the local flight standards district office/certificate holding district office.

(j) Related Information

(1) For more information about this AD, contact Neil Doh, Aerospace Engineer, Boston ACO Branch, FAA, 1200 District Avenue, Burlington, MA 01803; phone: 781-238-7757; fax: 781-238-7199; email: neil.doh@faa.gov.

(2) Refer to European Aviation Safety Agency (EASA) AD 2014-0187, dated August 20, 2014, for more information. You may examine the EASA AD in the AD docket on the internet at http://www.regulations.gov by searching for and locating Docket No. FAA-2017-0504.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) GEVEN S.p.A. Service Bulletin No. D103-25-004, Revision 4, dated March 15, 2016.

(ii) Reserved.

(3) For service information identified in this AD, contact Geven Technical Assistance Department, Via Boscofangone, Zona Industriale Nola-Marigliano, 80035 Nola (NA), Italy; phone: +39 081 31 21 396; fax: +39 081 31 21 321; email: Technical.assistance@geven.com.

(4) You may view this service information at FAA, Engine & Propeller Standards Branch, 1200 District Avenue, Burlington, MA 01803. For information on the availability of this material at the FAA, call 781-238-7759.

(5) You may view this service information that is incorporated by reference at the National Archives and Records Administration (NARA). For information on the availability of this material at NARA, call 202-741-6030, or go to: http://www.archives.gov/federal-register/cfr/ibr-locations.html.

Issued in Burlington, Massachusetts, on September 27, 2018.
Robert J. Ganley,
Manager, Engine and Propeller Standards Branch, Aircraft Certification Service.

[FR Doc. 2018-21872 Filed 10-9-18; 8:45 am]

BILLING CODE 4910-13-P